DEPARTMENT OF DEFENSE

Department of the Army

[Docket ID: USA-2016-HQ-0013]

Privacy Act of 1974; System of Records

AGENCY: Department of the Army, DoD.

ACTION: Notice to add a new System of Records.

SUMMARY: The Department of the Army proposes to add a new system of records, A0 1000.21, OAA DoD, entitled “Visa Passport Automated System (VPAS),” to track and provide real time status on the processing of no-fee passport and visa applications for all military and government civilian personnel and eligible dependent family members.

DATES: Comments will be accepted on or before May 9, 2016. This proposed action will be effective the day following the end of the comment period unless comments are received which result in a contrary determination.

ADDRESSES: You may submit comments, identified by docket number and title, by any of the following methods:

* Federal Rulemaking Portal: http://www.regulations.gov. Follow the instructions for submitting comments.

* Mail: ODCMO, Directorate for Oversight and Compliance, 4800 Mark Center Drive, Attn: Mailbox 24, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Rogers, Department of the Army, Privacy Office, U.S. Army Records Management and Declassification Agency, 7701 Telegraph Road, Casey Building, Suite 144, Alexandria, VA 22315-3827 or by phone at 703-428-7499.

SUPPLEMENTARY INFORMATION: The Office of the Secretary of Defense notices for systems of records subject to the Privacy Act of 1974 (5 U.S.C. 552a), as amended, have been published in the Federal Register and are available from the address in FOR FURTHER INFORMATION CONTACT or from the Defense Privacy and Civil Liberties Division Web site at http://dpcld.defense.gov/.

The proposed system report, as required by 5 U.S.C. 552a(r) of the Privacy Act of 1974, as amended, was submitted on March 28, 2016, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 4, 2016.
Aaron Siegel,
Alternate OSD Federal Register Liaison Officer, Department of Defense.

A0 1000.21, OAA DoD

System name:

Visa Passport Automated System (VPAS).

System location:

Logistics Services Washington (LSW), 9301 Chapek Road, Bldg. 1458, Fort Belvoir, VA 22060-1298.

Categories of individuals covered by the system:

This applies to all U.S. citizen military personnel (active duty and reserve) and civilian employees and their family members eligible for a no-fee passport and/or visa. Eligibility is determined by U.S. citizenship and passport or visa requirements outlined in the DoD Foreign Clearance Guide. Family members must be authorized to accompany the sponsor on official travel orders.

Categories of records in the system:

The following information is recorded in the system: Full name, date of birth, place of birth, sponsor's name and Social Security Number (SSN), military rank/civilian grade, current home address, email address, the destination, the travel date, the no-fee passport number, issue and expiration date, the purpose of travel, assignment type and duration of assignment, and date the passport is required.

Family member information:

Full name, date of birth, place of birth, home address, home telephone number, and office telephone number.

Authority for maintenance of the system:

10 U.S.C. 113, Secretary of Defense; DoD 1000.21-R, Passport and Passport Agent Services Regulation; and E.O. 9397 (SSN), as amended.

Purpose(s):

The purpose of this system is to track and provide real time status on the processing of no-fee passport and visa applications for all U.S. citizen military personnel (active duty-reserve) and civilian employees and their family members eligible for a no-fee passport.

Routine uses of records maintained in the system, including categories of users and the purposes of such uses:

In addition to those disclosures generally permitted under 5 U.S.C. 552a(b) of the Privacy Act of 1974, as amended, the records contained therein may specifically be disclosed outside the DoD as a routine use pursuant to 5 U.S.C. 552a(b)(3) as follows:

To the Department of State for the issuance of a no-fee passport, a Status of Forces Agreement (SOFA) stamp.

To Foreign Embassies to obtain a foreign entry visa.

To a Federal, State, local government or foreign agency as a routine use in response to such an agency's request for information arising by general statute or particular program statute, or by regulation, rule or order issued pursuant thereto, if necessary, and only to the extent necessary, to enable such agency to discharge its responsibilities of enforcing or implementing the statute.

The DoD Blanket Routine Uses set forth at the beginning of the Army's compilation of systems of records notices may apply to this system. The complete list of DoD blanket routine uses can be found online at: http://dpcld.defense.gov/Privacy/SORNsIndex/BlanketRoutineUses.aspx.

Policies and practices for storing, retrieving, accessing, retaining, and disposing of records in the system:

Storage:

Electronic storage media and paper records.

Retrievability:

Full name, date of birth, passport number, sponsor's SSN, and telephone number.

Safeguards:

Records are kept in a secure and controlled area. Access to the system is CAC protected and is restricted to authorized personnel. The application is scanned for vulnerabilities by the Army/OAA/ITA Enterprise Information & Mission Assurance Organization.

Retention and disposal:

Disposition pending until the National Archives and Records Administration has approved retention and disposition of these records, treat as permanent.

System manager(s) and address:

Division Chief, Logistics Services Washington, Travel Services Division, 9301 Chapek Road, Bldg. 1458, Fort Belvoir, VA 22060-1298.

Notification procedure:

Individuals seeking to determine whether information about themselves is contained in this system should address written inquiries to Logistics Services Washington (LSW), 9301 Chapek Road, Bldg. 1458, Fort Belvoir, VA 22060-1298.

The requester should provide full name, mailing address, date of birth, passport number, sponsor's SSN, telephone number, email, and signature.

In addition, the requester must provide a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

Record access procedures:

Individuals seeking access to information about themselves, contained in this system should address written inquiries to Director, Logistics Services Washington (LSW), 9301 Chapek Road, Bldg. 1458, Fort Belvoir, VA 22060-1298.

The requester should provide full name, mailing address, date of birth, passport number, sponsor's SSN, telephone number, email, and signature.

In addition, the requester must provide a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

Contesting record procedures:

The Army's rule for accessing records, contesting contents, and appealing initial agency determinations are contained in 32 CFR part 505, Army Privacy Program or may be obtained from the system manager.

Record source categories:

From the individual.

Exemptions claimed for the system:

None.

[FR Doc. 2016-07975 Filed 4-6-16; 8:45 am]

BILLING CODE 5001-06-P